SMALL BUSINESS ADMINISTRATION

[Disaster Declaration #17114 and #17115; Tennessee Disaster Number TN-00130]

Presidential Declaration of a Major Disaster for the State of Tennessee

AGENCY: U.S. Small Business Administration.

ACTION: Notice.

SUMMARY: This is a Notice of the Presidential declaration of a major disaster for the State of Tennessee (FEMA-4609-DR), dated 08/23/2021.

Incident: Severe Storm and Flooding.

Incident Period: 08/21/2021.

DATES: Issued on 08/23/2021.

Physical Loan Application Deadline Date: 10/22/2021.

Economic Injury (EIDL) Loan Application Deadline Date: 05/23/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 08/23/2021, applications for disaster loans may be filed at the address listed above or other locally announced locations.

The following areas have been determined to be adversely affected by the disaster: Primary Counties (Physical Damage and Economic Injury Loans): Humphreys.

Contiguous Counties (Economic Injury Loans Only):

Tennessee: Benton, Dickson, Hickman, Houston, Perry.

The Interest Rates are:

| Percent
For Physical Damage:
Homeowners with Credit Available Elsewhere | 3.125
Homeowners without Credit Available Elsewhere | 1.563
Businesses with Credit Available Elsewhere | 5.710
Businesses without Credit Available Elsewhere | 2.855
Non-Profit Organizations with Credit Available Elsewhere | 2.000
Non-Profit Organizations without Credit Available Elsewhere | 2.000
For Economic Injury:
Businesses & Small Agricultural Cooperatives without Credit Available Elsewhere | 2.855
Non-Profit Organizations without Credit Available Elsewhere | 2.000

The number assigned to this disaster for physical damage is 17114 6 and for economic injury is 17115 0.

(Catalog of Federal Domestic Assistance Number 59008)

James Rivera,
Associate Administrator for Disaster Assistance.

[FR Doc. 2021-18484 Filed 8-26-21; 8:45 am]

BILLING CODE 8026-03-P